LEGAL SERVICES CORPORATION

Solicitation for Expressions of Interest in Participation in Design of a State Justice Community Evaluation Instrument

AGENCY: Legal Services Corporation.

ACTION: Solicitation of expressions of interest in participation in design of a State Justice Community Evaluation Instrument

DATE: Submit expressions of interest must be received by January 15, 2002.

SUMMARY: LSC is establishing a Design Team to advise its consultant group on the development and testing of a tool that will effectively evaluate state justice community efforts and outcomes. LSC hereby solicits expressions of interest in appointment to the Design Team from individuals with experience in the provision of civil legal services to low income people and in outcome evaluation protocols.

FOR FURTHER INFORMATION CONTACT: Patricia M. Hanrahan, Special Assistant to the Vice President for Programs, Legal Services Corporation, 750 First St., NE., Tenth Floor, Washington, DC 20002-4250; (202) 336-8848; phanrahan@lsc.gov.

SUPPLEMENTARY INFORMATION: LSC has retained Greacen Associates to develop a state justice community evaluation instrument that allows LSC to make reasonable and comparative judgments about the effectiveness, efficiency and adequacy of state justice communities established through state planning. To assist with this process and ensure the effectiveness of the product, LSC is establishing a Design Team composed of twelve members; up to six will be solicited through the LSC Web site and Federal Register. LSC is seeking external members representing national legal services advocacy organizations; individual recipients (preferable reflecting large/small and/or urban/rural diversity); clients; national and local organized bar associations; and other interested stakeholders. While there are no specific “criteria” for membership, it is expected that applicants will have the support of their organizations in participating in the effort and be knowledgeable about the issues. Interested parties should have experience in evaluating outcomes, particularly in civil legal services organizations. Understanding the goals and purposes of state planning and related issues is also critical.

There will be three meetings: March 13 to 15, 2002 in Washington, DC; April 16 and 17 in Cleveland; May 16 and 17, 2002. Participation in conference calls and other communications such as e-mail is also expected. The project will take nine months.

LSC hereby solicits expressions of interest in appointment to the Design Team from the civil legal services community, clients, advocates, the organized bar and other interested parties. Expressions of interest must be submitted no later than 15 days from the date of publication of this notice. Expressions of interest must be submitted in writing (by regular mail, fax or e-mail) to LSC's Patricia M. Hanrahan at the addresses listed in this notice.

Once LSC has received expressions of interest, the President working in consultation with the Vice President for Programs, will make appointments of individuals and organizations to the Design Team. Groups or organizations asked to participate in the Design Team will be responsible for selecting and designating their own representatives.

Victor M. Fortuno,
General Counsel and Vice President for Legal Affairs.

[FR Doc. 02-520 Filed 1-8-02; 8:45 am]

BILLING CODE 7050-01-P